DEPARTMENT OF ENERGY

[FE Docket No. 04-111-NG, 04-104-NG, 04-114-NG, 04-113-NG, 04-108-NG, 04-115-NG, 04-101-NG, 04-116-NG, and 04-120-NG]

Office of Fossil Energy; Duke Energy Trading and Marketing, L.L.C., Marathon LNG Marketing LLC, Alliance Canada Marketing L.P., Montana-Dakota Utilities Co., Cannat Energy, Inc., Sempra Energy Resources, National Fuel Gas, Distribution Corporation, Northwestern Corporation, doing business as NorthWestern Energy, Pemex Gas Y Petroquimica Basica; Orders Granting Authority To Import and Export Natural Gas, Including Liquefied Natural Gas

AGENCY: Office of Fossil Energy, DOE.

ACTION: Notice of orders.

SUMMARY: The Office of Fossil Energy (FE) of the Department of Energy gives notice that during November 2004, it issued Orders granting authority to import and export natural gas, including the import of liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on December 9, 2004.
R. F. Corbin,
Manager, Natural Gas Regulation, Office of Natural Gas Regulatory Activities, Office of Fossil Energy.

Appendix

Orders Granting Import/Export Authorizations
Order No. | Date issued | Importer/exporter FE Docket No. | Import volume | Export volume | Comments
2039 | 11/1/04 | Duke Energy Trading and Marketing, L.L.C., 04-111-NG | 200 Bcf |  | Import and export a combined total of natural gas from and to Canada and Mexico, including imported liquefied natural gas from other international sources, beginning on October 31, 2004, and extending through October 30, 2006.
2040 | 11/8/04 | Marathon LNG Marketing LLC, 04-104-LNG | 116 Bcf |  | Import liquefied natural gas from various international sources, beginning on November 5, 2004, and extending through November 4, 2006.
2041 | 11/8/04 | Alliance Canada Marketing L.P., 04-114-NG | 70 Bcf |  | Import natural gas from Canada, beginning on November 13, 2004, and extending through November 12, 2006.
2042 | 11/10/04 | Montana-Dakota Utilities Co., 04-113-NG | 10 Bcf |  | Import natural gas from Canada, beginning on December 1, 2004, and extending through November 31, 2006.
2043 | 11/12/04 | Cannat Energy, Inc., 04-108-NG | 109 Bcf |  | Import natural gas from Canada, beginning on December 1, 2004, and extending through November 31, 2006.
2044 | 11/12/04 | Sempra Energy Resources, 04-115-NG | 300 Bcf |  | Import and export a combined total of natural gas from and to Canada and Mexico, beginning on November 12, 2004, and extending through November 11, 2006
2047 | 11/17/04 | National Fuel Gas Distribution Corporation, 04-101-NG | 7.2 Bcf |  | Import and export a combined total of natural gas from and to Canada and Mexico, beginning on January 28, 2005, and extending through January 27, 2007.
2048 | 11/17/04 | NorthWestern Corporation d/b/a NorthWestern Energy, 04-116-NG | 20Bcf |  | Import and export a combined total of natural gas from and to Canada, beginning on February 7, 2005, and extending through February 6, 2007.
2049 | 11/23/04 | Pemex Gas Y Petroquimica Basica, 04-120-NG | 1,300 Bcf |  | Import natural gas, including liquefied natural gas, and export natural gas up to a combined total from and to Canada and Mexico, beginning on November 24, 2004, and extending through November 23, 2006.

[FR Doc. 04-27867 Filed 12-20-04; 8:45 am]

BILLING CODE 6450-01-P